SOCIAL SECURITY ADMINISTRATION

20 CFR Part 403

RIN 0960-AE95

Testimony by Employees and the Production of Records and Information in Legal Proceedings; Correction

AGENCY: Social Security Administration.

ACTION: Correction to final regulations.

SUMMARY: This document contains corrections to the final regulations which were published on January 12, 2001 (66 FR 2805). The regulations implement procedures governing testimony by SSA employees and the production of official records and information in legal proceedings to which SSA is not a party.

EFFECTIVE DATE: April 13, 2001.

FOR FURTHER INFORMATION CONTACT: Suzanne DiMarino, 410-965-1769.

SUPPLEMENTARY INFORMATION:

Need for Correction

As published, the final regulations contain an error in the mailing address where an individual or entity shall submit a request for records, information or testimony.

List of Subjects in 20 CFR Part 403

Courts, Government employees.

20 CFR part 403 is corrected by making the following correcting amendments:

PART 403—TESTIMONY BY EMPLOYEES AND THE PRODUCTION OF RECORDS AND INFORMATION IN LEGAL PROCEEDINGS

1. The authority citation for part 403 continues to read as follows:

Authority: Secs. 702(a)(5) and 1106 of the Act, (42 U.S.C. 902(a)(5) and 1306); 5 U.S.C. 301; 31 U.S.C. 9701.

2. Section 403.120 is amended by revising the first sentence of paragraph (c) to read as follows:

§ 403.120 How do you request testimony?

* * * * *

(c) You must send your application for testimony to: Social Security Administration, Office of the General Counsel, Office of General Law, P.O. Box 17779, Baltimore, MD 21235-7779, Attn: Touhy Officer. * * *

* * * * *

Georgia E. Myers,
SSA Regulations Officer.

[FR Doc. 01-5823 Filed 3-9-01; 8:45 am]

BILLING CODE 4191-02-P